DEPARTMENT OF THE INTERIOR

Bureau of Land Management

[ES-030-1430-FQ; MIES-012677]

Public Land Order No. 7835; Revocation of the Withdrawal Established by Executive Order Dated August 24, 1842; Michigan

AGENCY: Bureau of Land Management, Interior.

ACTION: Public Land Order.

SUMMARY: This order revokes in its entirety the withdrawal established by an Executive Order as to 168.05 acres of public land on Thunder Bay Island in Lake Huron withdrawn from all forms of appropriation under the public land laws and reserved for use by the United States Coast Guard for lighthouse purposes. The reservation is no longer needed. This order returns administrative jurisdiction to the Bureau of Land Management and opens the land to the operation of the public land laws, subject to valid existing rights and other segregations of record.

DATES: Effective: May 20, 2015.

FOR FURTHER INFORMATION CONTACT: Carol Grundman, Realty Specialist, Bureau of Land Management, Northeastern States Field Office, 626 East Wisconsin Avenue, Suite 200, Milwaukee, Wisconsin 53202, 414-297-4447. Persons who use a telecommunications device for the deaf (TDD) may call the Federal Information Relay Service (FIRS) at 1-800-877-8339 to contact the above individual. The FIRS is available 24 hours a day, 7 days a week, to leave a message or question with the above individual. You will receive a reply during normal business hours.

SUPPLEMENTARY INFORMATION: The United States Coast Guard has determined that the reservation for the Thunder Bay Island Light Station is no longer needed and has requested the revocation. The United States Coast Guard has requested a right of access to operate and maintain their aid to navigation. The land has been and will remain open to mineral leasing. Michigan is not subject to the 1872 Mining Law.

Order

By virtue of the authority vested in the Secretary of the Interior by Section 204 of the Federal Land Policy and Management Act of 1976, 43 U.S.C. 1714, it is ordered as follows:

1. The withdrawal established by Executive Order dated August 24, 1842, which reserved the following described public land on Thunder Bay Island for lighthouse purposes, is hereby revoked in its entirety:

Michigan Meridian

T. 30 N., R. 10 E.,

Sec. 3.

T. 31 N., R. 10 E.,

Sec. 33, lot 5;

Sec. 34, lots 1, 2, and 3.

The area described contains 168.05 acres in Alpena County.

2. At 9 a.m. on May 20, 2015, subject to valid existing rights, the provisions of existing withdrawals, other segregations of record, and the requirements of applicable law, the land described in Paragraph 1 shall be opened to the operation of the public land laws generally, but not the United States mining laws since Michigan is not subject to the 1872 Mining Law. All valid applications received at or prior to 9 a.m. on May 20, 2015, shall be considered as simultaneously filed at that time. Those received thereafter shall be considered in the order of filing.

Dated: April 5, 2015.
Janice M. Schneider,
Assistant Secretary—Land and Minerals Management.

[FR Doc. 2015-08925 Filed 4-17-15; 8:45 am]

BILLING CODE 4310-GJ-P